DEPARTMENT OF THE INTERIOR

National Park Service

Native American Graves Protection and Repatriation Review Committee: Meeting

AGENCY: National Park Service, Interior.

ACTION: Notice.

Notice is here given in accordance with the Federal Advisory Committee Act, 5 U.S.C. Appendix (1988), of a meeting of the Native American Graves Protection and Repatriation Review Committee (Review Committee). The Review Committee will meet on October 11-12, 2008, at the Sheraton Suites San Diego at Symphony Hall, 701 A Street, San Diego, CA 92101. Meeting sessions will begin at 8:30 a.m. and end at 5:00 p.m. each day.

The agenda for the meeting includes an update on National NAGPRA Program activities during the second half of fiscal year 2008; activity reports from the National NAGPRA Program as requested by the Review Committee; an update and Review Committee recommendations on development of the draft proposed rule for disposition of unclaimed cultural items excavated or removed from Federal or tribal lands after November 16, 1990 (to be codified at 43 CFR 10.7); requests for recommendations regarding the disposition of culturally unidentifiable human remains; presentations and statements by Indian tribes, Native Hawaiian organizations, museums, Federal agencies, and the public; and the selection of dates and a site for the autumn 2009 meeting.

A detailed agenda for this meeting will be posted by September 11, 2008, at http://www.nps.gov/history/nagpra/.

A request to make a presentation before the Review Committee at the October meeting will be considered if it is received, in writing, by the close of business on September 1, 2008. The request must include an abstract of the presentation and contact information for the presenter(s). Likewise, a written statement will be accepted for consideration by the Review Committee at the October meeting if it is received by close of business on September 1, 2008. Send presentation requests and statements by U.S. Postal Service mail or commercial delivery to: Designated Federal Officer, NAGPRA Review Committee, National Park Service ¯ National NAGPRA Program (2253), 1201 Eye Street, NW, 8th Floor, Washington, DC 20005. In order to insure that presentation requests and statements are received in a timely manner, it is recommended that these documents also be sent via fax, to (202) 371-5197.

The transcript of a Review Committee meeting is available for distribution approximately eight weeks from the date of the meeting. For a written transcript, contact the Designated Federal Officer at the above listed address. To request an electronic copy of a meeting transcript, contact David_Tarler@nps.gov. Information about NAGPRA, the Review Committee, and Review Committee meetings is available at the National NAGPRA website, http://www.nps.gov/history/nagpra/. For the Review Committee's meeting procedures, select “Review Committee,” then select “Procedures.”\

The Review Committee was established by the Native American Graves Protection and Repatriation Act of 1990 (NAGPRA), 25 U.S.C. 3001-3013. Review Committee members are appointed by the Secretary of the Interior. The Review Committee is responsible for monitoring the NAGPRA inventory and identification process; reviewing and making findings related to the identity or cultural affiliation of cultural items, or the return of such items; facilitating the resolution of disputes; compiling an inventory of culturally unidentifiable human remains that are in the possession or control of each Federal agency and museum and recommending specific actions for developing a process for disposition of such human remains; consulting with Indian tribes and Native Hawaiian organizations and museums on matters affecting such tribes or organizations lying within the scope of work of the Committee; consulting with the Secretary of the Interior on the development of regulations to carry out NAGPRA; and making recommendations regarding future care of repatriated cultural items. The Review Committee's work is carried out during the course of meetings that are open to the public.

Dated: June 26, 2008
David Tarler
Designated Federal Officer,
Native American Graves Protection and Repatriation Review Committee.

[FR Doc. E8-15891 Filed 7-11-08; 8:45 am]

BILLING CODE 4312-50-S